DEPARTMENT OF THE TREASURY

Internal Revenue Service

26 CFR Part 1

[REG-106030-98]

RIN 1545-AW50

Source of Income From Certain Space and Ocean Activities; Source of Communications Income; Correction

AGENCY: Internal Revenue Service (IRS), Treasury.

ACTION: Correction to notice of proposed rulemaking.

SUMMARY: This document corrects the notice of proposed rulemaking (REG-106030-98) that was published in the Federal Register on Monday, September 19, 2005 (70 FR 54859) under section 863(d) governing the source of income from certain space and ocean activities.

FOR FURTHER INFORMATION CONTACT: Edward R. Barret, (202) 622-3880 (not a toll-free number).

SUPPLEMENTARY INFORMATION:

Background

The notice of proposed rulemaking (REG-106030-98) that is the subject of this correction is under section 863(d) of the Internal Revenue Code.

Need for Correction

As published, REG-106030-98 contains an error that may prove to be misleading and is in need of clarification.

Correction of Publication

Accordingly, the notice of proposed rulemaking (REG-106030-98), that was the subject of FR Doc. 05-18265, is corrected as follows:

§ 1.863-9 [Corrected]

On page 54875, column 3, § 1.863-9, paragraph (e), line 2, the language “communications income. Income” is corrected to read “communications income. The source of income”.

Cynthia Grigsby,
Acting Chief, Publications and Regulations Branch, Legal Processing Division, Associate Chief Counsel (Procedure and Administration).

[FR Doc. 05-19779 Filed 10-3-05; 8:45 am]

BILLING CODE 4830-01-P